DEPARTMENT OF THE INTERIOR

Bureau of Land Management

[L12200000.DD0000.LLCAD06000.19X (MO#4500135781)]

Notice of Temporary Closure on Public Lands in Riverside County, CA

AGENCY: Bureau of Land Management, Interior.

ACTION: Notice of temporary closure.

SUMMARY: As authorized under the provisions of the Federal Land Policy and Management Act of 1976, as amended, the Bureau of Land Management (BLM) Palm Springs-South Coast Field Office will temporarily close and restrict uses of certain public land surrounding the Bradshaw Trail in Riverside County, California, to all public use to provide for public safety at the site. Notice is hereby given that identified public lands administered by the Palm Springs-South Coast Field Office, BLM, are temporarily closed to all public entry.

DATES: This temporary closure will be in effect at 12:01 a.m., January 6, 2020, through 11:59 p.m., February 7, 2020.

FOR FURTHER INFORMATION CONTACT: Douglas Herrema, Field Manager, 1201 Bird Center Drive, Palm Springs, CA 92262; telephone: 760-833-7100; email: dherrema@blm.gov. Persons who use a telecommunications device for the deaf (TDD) may call the Federal Relay Service (FRS) at 1-800-877-8339 to contact Mr. Herrema during normal business hours. The FRS is available 24 hours a day, 7 days a week, to leave a message or question. You will receive a reply during normal hours.

SUPPLEMENTARY INFORMATION: This closure affects public lands north of the Bradshaw Trail, including the trail itself, a county maintained roadway in Riverside County, California. The legal description of the affected public lands is:

San Bernardino Meridian

T. 7 S., R. 12 E.,

Sec. 36, lots 3, 4, 6, and 7.

T. 8 S., R. 12 E.,

Sec. 5, lots 6 through 10, 14, 15, 24, and 25.

T. 7 S., R. 13 E.,

Sec. 21, lots 1, 2, and 4.

T. 7 S., R. 14 E.,

Sec. 19, lots 8, 9, 12, and 13;

Sec. 25, lots 1, 2, 5 through 8, 11, 12, and 13;

Sec. 27, lots 1, 2, 4, 5, 7, 8, 10, and 11, S½N½SE¼, and S½N½SW¼;

Sec. 29, lots 1, 2, 4, 5, 8 through 11, 13, 14, 17, and 18, NW¼SE¼NE¼, and S½SE¼NE¼;

Sec. 33, lots 2 and 4.

T. 7 S., R. 15 E.,

Sec. 33, lots 4, 5, 7, 8, 23, 24, and 26, NW¼SE¼NW¼, and W½NW¼SW¼NW¼NW¼.

T. 8 S., R. 15 E.,

Sec. 3, lots 1, 2, 5, 6, 9, 10, 12, and 13;

Sec. 11, lots 1, 2, and 3.

The area described is approximately 630 acres in Riverside County, California.

The closure is necessary because of public health and safety risks caused by the potential for unknown unexploded ordnance and other hazardous materials located on the lands. The approximate 630 acres of public lands were transferred to the Department of the Navy for inclusion in the Chocolate Mountain Aerial Gunnery Range and were used as a live-bombing and training facility. Pursuant to section 2966 of Subtitle E of Public Law 113-66, these acres are part of a larger relinquishment of lands (2,000 acres) to the Department of the Interior. The Department of the Navy is in the process of executing a response action plan to clean the contaminated parcels. Once the parcels are decontaminated, the BLM will reopen the lands to the public. The lands are closed to all forms of public entry, including dispersed camping, or other recreational activities on the above described lands.

Exceptions: Temporary closure restrictions do not apply to Federal, State, and local officers and employees in the performance of their official duties; members of organized rescue or fire-fighting forces in the performance of their official duties; and persons with written authorization from the BLM.

Enforcement: Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of California law.

(Authority: 40 CFR 1501.7)

Danielle Chi,
Deputy State Director, Resources and Fire.

[FR Doc. 2019-24114 Filed 11-4-19; 8:45 am]

BILLING CODE 4310-40-P